DEPARTMENT OF TRANSPORTATION

Coast Guard

33 CFR Part 117

[CGD11-00-011]

Drawbridge Operation Regulations; Sacramento River, CA

AGENCY: Coast Guard, DOT.

ACTION: Notice of temporary deviation from regulations.

SUMMARY: The Commander, Eleventh Coast Guard District has approved a temporary deviation to the regulations governing the opening of the Isleton bascule drawbridge at mile 18.7 over the Sacramento River, Solano County, CA. The approval specifies that the bridge need not open for vessel traffic from 9 a.m. to 3 p.m. on 23 October 2000. This deviation is to allow California Department of Transportation to perform essential maintenance on the bridge.

DATES: Effective period of the deviation is from 9 a.m. to 3 p.m. on 23 October 2000.

FOR FURTHER INFORMATION CONTACT: David H. Sulouff, Chief, Bridge Section; Eleventh Coast Guard District, Bldg 50-6 Coast Guard Island, Alameda, CA 94501-5100, telephone (510) 437-3516.

SUPPLEMENTARY INFORMATION: The Isleton Drawbridge, mile 18.7, over the Sacramento River, Solano County, CA, provides 18 feet vertical clearance above Mean Lower Low Water when closed. Vessels that can pass under the bridge without an opening may do so at all times. This deviation has been coordinated with commercial operators and various marinas on the waterway. No objections were received. The normal drawbridge regulation requires the bridge to open on signal from May 1 through October 31 from 6 a.m. to 10 p.m., and from November 1 through April 30 from 9 a.m. to 5 p.m. At all other times, the draws shall open on signal if at least four hours notice is given.

In accordance with 33 CFR 117.35(c), this work will be performed with all due speed in order to return the bridge to normal operation as soon as possible. This deviation from the normal operating regulations in 33 CFR 117.5 is authorized in accordance with the provisions of 33 CFR 117.35.

Dated: September 29, 2000.
C.D. Wurster,
Captain, U.S. Coast Guard, Acting Commander, Eleventh Coast Guard District.

[FR Doc. 00-26076 Filed 10-10-00; 8:45 am]

BILLING CODE 4910-15-P